ENVIRONMENTAL PROTECTION AGENCY

[EPA-HQ-OAR-2003-0213; FRL-9474-9]

Agency Information Collection Activities; Submission to OMB for Review and Approval; Comment Request; Fuel and Fuel Additives (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before November 3, 2011.

ADDRESSES: Submit your comments, referencing Docket ID No. EPA-HQ-OAR-2003-0213, to (1) EPA online using http://www.regulations.gov (our preferred method), by e-mail to a-and-r-Docket@epa.gov or by mail to: EPA Docket Center, Environmental Protection Agency, Air and Radiation Docket, Mail code: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jose M. Solar, Office of Transportation and Air Quality, mail code 6406J, Environmental Protection Agency, 1200 Pennsylvania Ave., NW., Washington, DC 20460; telephone number: 202-343-9027; fax number 202-343-2801; e-mail address: Solar.Jose@epa.gov.

SUPPLEMENTARY INFORMATION: EPA has submitted the following ICR to OMB for review and approval according to the procedures prescribed in 5 CFR 1320.12. On Wednesday, May 18, 2011 (76 FR 28768), EPA sought comments on this ICR pursuant to 5 CFR 1320.8(d). EPA received no comments. Any additional comments on this ICR should be submitted to EPA and OMB within 30 days of this notice.

EPA has established a public docket for this ICR under Docket ID No. EPA-HQ-OAR-2003-0213, which is available for online viewing at http://www.regulations.gov, or in person viewing at the Office of Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Office of Air and Radiation Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Fuel and Fuel Additives (Renewal).

ICR numbers: EPA ICR No. 1591.25, OMB Control No. 2060-0277.

ICR Status: This ICR is currently scheduled to expire on 10/31/11. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Gasoline combustion is the major source of air pollution in most urban areas. In the 1990 amendments to the Clean Air Act (Act), section 211(k), Congress required that gasoline dispensed in nine areas with severe air quality problems, and areas that opt-in, be reformulated to reduce toxic and ozone-forming emissions. Congress also required that, in the process of producing reformulated gasoline (RFG), dirty components removed in the reformulation process not be “dumped” into the remainder of the country's gasoline, known as conventional gasoline (CG). The Environmental Protection Agency (EPA) promulgated regulations at 40 CFR part 80, subpart D—Reformulated Gasoline, Subpart E—Anti-Dumping, and Subpart F—Attest Engagements, implementing the statutory requirements, which include standards for RFG (80.41) and CG (80.101). The regulations also contain reporting and recordkeeping requirements for the production, importation, transport and storage of gasoline, in order to demonstrate compliance and facilitate compliance and enforcement. The program is run by the Office of Transportation and Air Quality, Office of Air and Radiation. Enforcement is done by the Air Enforcement Division, Office of Regulatory Enforcement, Office of Enforcement and Compliance Assurance. This program excludes California, which has separate requirements for gasoline.

The United States has an annual gasoline consumption of about 133 billion gallons, of which about 30% is RFG. In 2009 EPA received reports from 255 refineries, 60 importer facilities/facility groups, 44 oxygenate blending facilities, 21 independent laboratory facilities, and the RFG Survey Association, Inc. under this program.

Burden Statement: The annual public reporting and recordkeeping burden for this collection of information is estimated to average 2.4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Refiners, Oxygenate Blenders, and Importers of Gasoline; Requirements for parties in the Gasoline Distribution Network.

Estimated Number of Respondents: 4,068.

Frequency of Response: Once, Quarterly, Annually, on Occasion.

Estimated Total Annual Hour Burden: 127,041.

Estimated Total Annual Cost: $38,686,442, which includes $24,713,032 annualized capital or O&M costs, and $13,973,410 in labor costs.

Changes in the Estimates: There is no change in the hour estimated burden currently identified in the OMB Inventory of Approved ICR Burdens.

Dated: September 28, 2011.
John Moses,
Director, Collection Strategies Division.

[FR Doc. 2011-25502 Filed 10-3-11; 8:45 am]

BILLING CODE 6560-50-P